DEPARTMENT OF VETERANS AFFAIRS

38 CFR Part 17

RIN 2900-AK01

Compensated Work Therapy/Transitional Residences Program

AGENCY: Department of Veterans Affairs.

ACTION: Proposed rule.

SUMMARY: This document proposes to amend VA's medical regulations to establish provisions regarding housing under the Compensated Work Therapy/Transitional Residences program. These provisions are designed to ensure proper management, ensure reasonable payment rates for residents, and ensure that residents stay only for the time necessary to meet the intended goals.

DATES: Comments must be received by VA on or before May 7, 2001.

ADDRESSES: Mail or hand-deliver written comments to: Director, Office of Regulations Management (02D), Department of Veterans Affairs, 810 Vermont Ave., NW., Room 1154, Washington, DC 20420; or fax comments to (202) 273-9289; or e-mail comments to OGCRegulations@mail.va.gov. Comments should indicate that they are submitted in response to “RIN 2900-AK01.” All comments received will be available for public inspection in the Office of Regulations Management, Room 1158, between the hours of 8 a.m. and 4:30 p.m., Monday through Friday (except holidays).

FOR FURTHER INFORMATION CONTACT: Jamie Ploppert, Program Specialist, Office of Psychosocial Rehabilitation Services (116D), Veterans Health Administration, 757-722-9961, ext. 1123 (this is not a toll-free number).

SUPPLEMENTARY INFORMATION: This document proposes to amend VA's Medical regulations to establish provisions regarding housing under the Compensated Work Therapy/Transitional Residences program. This VA program is a psychosocial rehabilitation program of therapeutic work and transitional housing. This program is designed for veterans with physical and/or mental disabilities. It utilizes normalized work and residential living environments, along with peer and professional support, to improve vocational, social, and independent living skills.

Under the provisions of 38 U.S.C. 1772, VA must prescribe the qualifications for house managers, make provision for reasonable payment rates for residents, and establish limits on the length of stay for residents.

House Managers

The proposed rule provides that house managers shall be selected by the local VA program coordinator and will be responsible for coordinating and supervising the day-to-day operation of the facility. The proposed rule also sets forth qualifications for house managers. These qualifications are designed to foster effective management of the residence. Further, consistent with specific authority in 38 U.S.C. 1772(d), house managers would be exempt from the residence fee.

Resident Must Be in Program

The proposed rule states that each resident, except for a house manager, must be in the Compensated Work Therapy/Transitional Residences program. This reflects statutory requirements in 38 U.S.C. 1772.

Resident's Payment

The proposed rule sets forth criteria for establishing the amount to be paid by residents. The fee is based on the cost of utilities, maintenance, furnishings, appliances, service equipment, all other operating costs, plus an additional 15 percent of such operating expenses. Our experience has demonstrated that this would approximately equal the amount to be expended. The additional 15 percent would cover unexpected costs.

Further, we propose that the fee would be the same for each resident except that a resident shall not on average pay more than 30 percent of their gross weekly earnings. This percentage is what low-income subsidized housing uses in determining its rental fees. Further, our experience with the Compensated Work Therapy/Transitional Residences program has demonstrated that 30 percent of income would be adequate to cover housing expenses. The limitation of 30 percent also would help to ensure that residents have sufficient funds to meet their other living expenses as well as to help prepare for a successful transition to independent living.

Also, to help ensure that there is money to cover operating expenses when due, the proposal states that a resident's fee must be paid bi-weekly in advance.

The proposed rule also contains a mechanism for the transfer of funds from the medical center of jurisdiction if necessary for the residence to obtain fiscal solvency.

Resident's Length of Stay

We propose that the length of stay in the housing be based on the individual needs of each veteran in consensus with his/her clinical treatment team. However, we also propose that the length of stay not exceed 12 months. We believe this period of time to be sufficient to address the veterans' psychosocial rehabilitative needs before their transition to independent living.

OMB Review

This document has been reviewed by the Office of Management and Budget under Executive Order 12866.

Paperwork Reduction Act

This document contains no provisions constituting a collection of information under the Paperwork Reduction Act (44 U.S.C. 3501-3520).

Regulatory Flexibility Act

The Secretary hereby certifies that the adoption of this proposed rule would not have a significant economic impact on a substantial number of small entities as they are defined in the Regulatory Flexibility Act, 5 U.S.C. 601-612. This document affects individuals and does not affect small entities. Therefore, pursuant to 5 U.S.C. 605(b), this proposed rule is exempt from the initial and final regulatory flexibility analysis requirement of sections 603 and 604.

List of Subjects in 38 CFR Part 17

Administrative practice and procedure, Alcohol abuse, Alcoholism, Claims, Day care, Dental health, Drug abuse, Foreign relations, Government contracts, Grant programs-health, Government programs-veterans, Health care, Health facilities, Health professions, Health records, Homeless, Incorporation by reference; Medical and dental schools, Medical devices, Medical research, Mental health programs, Nursing home care, Philippines, Reporting and recordkeeping requirements, Scholarships and fellowships, Travel and transportation expenses, Veterans.

Approved: February 15, 2001.
Anthony J. Principi,
Acting Secretary of Veterans Affairs.

For the reasons set forth in the preamble, 38 CFR part 17 is proposed to be amended to read as follows:

PART 17—MEDICAL

1. The authority citation for part 17 continues to read as follows:

Authority: 38 U.S.C. 501, 1721, unless otherwise noted.

2. Redesignate § 17.49 as new § 17.48.

3. Add a new § 17.49 to read as follows:

§ 17.49 Compensated Work Therapy/Transitional Residences program.

(a) This section sets forth requirements for persons residing in housing under the Compensated Work Therapy/Transitional Residences program.

(b) House managers shall be responsible for coordinating and supervising the day-to-day operations of the facilities. Each house manager shall be appointed as a without-compensation employee. The local VA program coordinator shall select each house manager and may give preference to an individual who is a current or past resident of the facility or the program. A house manager must have the following qualifications:

(1) A stable, responsible and caring demeanor;

(2) Leadership qualities including the ability to motivate;

(3) Effective communication skills including the ability to interact;

(4) A willingness to accept feedback;

(5) A willingness to follow a chain of command.

(c) Each resident admitted to the Transitional Residence, except for a house manager, must also be in the Compensated Work Therapy program.

(d) Each resident, except for a house manager, must bi-weekly, in advance, pay a fee to VA for living in the housing. The local VA program coordinator will establish the fee for each resident in accordance with the provisions of paragraph (d)(1) of this section.

(1) The total amount of actual operating expenses of the residence (utilities, maintenance, furnishings, appliances, service equipment, all other operating costs) for the previous fiscal year plus 15 percent of that amount equals the total operating budget for the current fiscal year. The total operating budget is to be divided by the average number of beds occupied during the previous fiscal year and the resulting amount is the average yearly amount per bed. The bi-weekly fee shall equal to 1/26 of the average yearly amount per bed, except that a resident shall not, on average, pay more than 30 percent of their gross CWT (Compensated Work Therapy) bi-weekly earnings. The VA program manager shall, bi-annually, conduct a review of the factors in this paragraph for determining resident payments. If he or she determines that the payments are too high or too low by more than 5 percent of the total operating budget, he or she shall recalculate resident payments under the criteria set forth above, except that the calculations shall be based on the current fiscal year (actual amounts for the elapsed portion and projected amounts for the remainder).

(2) If the revenues of a residence do not meet the expenses of the residence resulting in an inability to pay actual operating expenses, the medical center of jurisdiction shall provide the funds necessary to return the residence to fiscal solvency in accordance with the provisions of this section.

(e) The length of stay in housing under the Compensated Work Therapy/Transitional Residences program is based on the individual needs of each resident, as determined by consensus of the resident and his/her VA Clinical Treatment team. However, the length of stay should not exceed 12 months.

(Authority: 38 U.S.C. 1772)

[FR Doc. 01-5404 Filed 3-5-01; 8:45 am]

BILLING CODE 8320-01-P